DEPARTMENT OF HEALTH AND HUMAN SERVICES

Centers for Disease Control and Prevention

[Request for Application (RFA) AA112]

Implementation of Programs To Improve the Management of HIV/AIDS/STI/TB Care in the Livingstone District of the Republic of Zambia; Notice of Intent To Fund Single Eligibility Award

A. Purpose

The Centers for Disease Control and Prevention (CDC) announces the intent to fund fiscal year (FY) 2005 funds for a cooperative agreement program to provide high-quality clinical care to PLWHAs in the Livingstone District of Southern Province of the Republic of Zambia. The Catalog of Federal Domestic Assistance number for this program is 93.067.

B. Eligible Applicant

Assistance will be provided only to the Southern Province Health Office of the Republic of Zambia. No other applications are solicited. The current health system structure in Zambia consists of the MOH, which has the responsibility for policy guidance and strategic planning, and the Central Board of Health, which is responsible for the translation and implementation of government health policies. The country is administratively divided into nine Provinces and 72 districts. In the health sector, the Provincial Health Office provides technical support to the districts in the areas of management of service delivery, planning of health programs, priority setting and resource utilization. Within this framework the Southern Province Health Office is the only entity in Zambia qualified to collaborate with HHS as part of the Emergency Plan in Livingstone because it has the legal authority, expertise, and capacity to perform the key public health activities that are part of this cooperative agreement.

C. Funding

Approximately $200,000 is available in FY 2005 to fund this award September 15, 2005 and will be made for a 12-month budget period within a project period of up to five years. Funding estimates may change.

D. Where To Obtain Additional Information

For general comments or questions about this announcement, contact:

Technical Information Management, CDC Procurement and Grants Office, 2920 Brandywine Road, Atlanta, GA 30341-4146, telephone: 770-488-2700.

For program technical assistance, contact: Marc Bulterys, Project Officer, 1600 Clifton Road NE, MS E-04, Atlanta, GA 30333, telephone: 011 260 1 250 955, e-mail: bulterysm@cdczm.org.

Dated: August 9, 2005.
William P. Nichols,
Director, Procurement and Grants Office, Centers for Disease Control and Prevention.

[FR Doc. 05-16175 Filed 8-15-05; 8:45 am]

BILLING CODE 4163-18-P